CORPORATION FOR NATIONAL AND COMMUNITY SERVICE

Information Collection; Submission for OMB Review, Comment Request

AGENCY: Corporation for National and Community Service.

ACTION: Notice.

SUMMARY: The Corporation for National and Community Service (hereinafter the “Corporation”), has submitted a public information collection request (ICR) entitled “Day of Service Registration and Reporting (Serve.gov)” to the Office of Management and Budget (OMB) for review and approval in accordance with the Paperwork Reduction Act of 1995, Public Law 104-13, (44 U.S.C. Chapter 35). Copies of this ICR, with applicable supporting documentation, may be obtained by calling the Corporation for National and Community Service, Rhonda Taylor, at (202) 606-6721. Individuals who use a telecommunications device for the deaf (TTY-TDD) may call (202) 565-2799 between 8:30 a.m. and 5 p.m. eastern time, Monday through Friday.

ADDRESSES: Comments may be submitted, identified by the title of the information collection activity, to the Corporation for National and Community Service, by any of the following two methods within 60 days from the date of publication in this Federal Register:

(1) By fax to: (202) 606-3460, Attention: Rhonda Taylor, Corporation for National and Community Service; and

(2) Electronically by e-mail to: RTaylor@cns.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

Description: The Corporation seeks to renew the Day of Service Registration and Reporting (Serve.gov). The purpose of this information collection is to help expand volunteering throughout the country. This collection assists volunteer organizations in finding volunteers for projects, as well as providing opportunities for those wishing to volunteer.

Type of Review: Renewal, previously granted emergency clearance.

Agency: Corporation for National and Community Service.

Title: “Day of Service Registration and Reporting (Serve.gov)”

OMB Number: 3045-0122.

Agency Number: None.

Affected Public: Nonprofit organizations.

Total Respondents: 50,000 respondents for registering projects.

Frequency: Annual.

Average Time Per Response: 25 minutes.

Estimated Total Burden Hours: 20,833 hours.

Total Burden Cost (capital/startup): None.

Total Burden Cost (operating/maintenance): None.

Affected Public: Nonprofit organizations.

Total Respondents: 50,000 respondents for reporting accomplishments.

Frequency: Annual.

Average Time Per Response: 20 minutes.

Estimated Total Burden Hours: 16,667 hours.

Total Burden Cost (capital/startup): None.

Total Burden Cost (operating/maintenance): None.

Affected Public: Nonprofit organizations.

Total Respondents: 450,000 individual volunteers.

Frequency: Annual.

Average Time Per Response: 10 minutes.

Estimated Total Burden Hours: 75,000 hours.

Total Burden Cost (capital/startup): None.

Total Burden Cost (operating/maintenance): None.

Dated: July 21, 2009.
Rhonda Taylor,
Acting Director, Office of Corporate Relations.

[FR Doc. E9-18302 Filed 7-30-09; 8:45 am]

BILLING CODE 6050-$$-P